DEPARTMENT OF JUSTICE

Notice of Lodging of Proposed Consent Decree Under the Comprehensive Environmental Response, Compensation and Liability Act

On July 2, 2014, the Department of Justice lodged a proposed consent decree with the United States District Court for the Western District of Virginia in a lawsuit entitled United States v. Appalachian Power Company and Kingsport Power Company, Civil Action No. 1:14-CV-00044.

The proposed Consent Decree will resolve claims alleged under the Comprehensive Environmental Response, Compensation and Liability Act (“CERCLA”) against the Appalachian Power Company and Kingsport Power Company for costs incurred in responding to releases and threatened releases of hazardous substances at the Twin Cities Iron and Metal Site (the “Site”) located in Bristol, Virginia. Under the proposed Consent Decree, the Defendants will pay the United States $250,250 to resolve the United States' claims for past costs incurred at the Site.

The publication of this notice opens a period for public comment on the proposed consent decree. Comments should be addressed to the Assistant Attorney General, Environment and Natural Resources Division, and should refer to United States v. Appalachian Power Company and Kingsport Power Company, D.J. Reference No. 90-11-3-10712. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/Consent_Decrees.html.

We will provide a paper copy of the proposed consent decree upon written request and payment of reproduction costs. Please mail your request and payment to: Consent Decree Library, U.S. DOJ—ENRD, P.O. Box 7611, Washington, DC 20044-7611.

Please enclose a check or money order for $6.00 (25 cents per page reproduction costs) payable to the United States Treasury. For a paper copy without the exhibits and signature pages, the cost is $4.50.

Robert Brook,
Assistant Section Chief, Environmental Enforcement Section, Environment & Natural Resources Division.

[FR Doc. 2014-15979 Filed 7-8-14; 8:45 am]

BILLING CODE 4410-15-P